DEPARTMENT OF ENERGY

Federal Energy Resolution Commission

[Docket No. GP94-2-009]

Columbia Gas Transmission Corporation; Notice of Refund Report

March 29, 2000.

Take notice that on March 21, 2000, Columbia Gas Transmission Corporation (Columbia), tendered for filing with the Federal Energy Regulatory Commission (Commission) its Refund Report made to comply with the April 17, 1995 Settlement (Settlement) in Docket No. GP94-02, et al., as approved by the Commission on June 15, 1995 (Columbia Gas Transmission Corp., 71 FERC ¶ 61,337 (1995)).

Columbia states that on February 21, 2000 Columbia made refunds, as billing credits, in the amount of $309,789.90. The refunds represent deferred tax refunds received from Trailblazer Pipeline Company and Overthrust Pipeline Company. These refunds were made pursuant to Article VIII, Section E of the Settlement using the allocation percentage shown on Appendix G, Schedule 5 of the Settlement. The refunds include interest at the FERC rate, in accordance with the Code of Federal Regulations, Subpart F, Section 154.501(d).

Columbia states that copies of its filing have been mailed to all affected customers and state commissions.

Any person desiring to protest said filing should file a protest with the Federal Energy Regulatory Commission, 888 First Street, NE, Washington, DC 20426, in accordance with Section 385.211 of the Commission's Rules and Regulations. All such protests must be filed on or before April 5, 2000. Protests will be considered by the Commission in determining the appropriate action to be taken, but will not serve to make protestants parties to the proceeding. Copies of this filing are on file with the Commission and are available for public inspection in the Public Reference Room. This filing may be viewed on the web at http://www.ferc.fed.us/online/rims.htm (call 202-208-2222 for assistance).

Linwood A. Watson, Jr.,
Acting Secretary.

[FR Doc. 00-8270 Filed 4-3-00; 8:45 am]

BILLING CODE 6717-01-M